DEPARTMENT OF HEALTH AND HUMAN SERVICES

Centers for Disease Control and Prevention

Interagency Committee on Smoking and Health (ICSH)

In accordance with section 10(a) (2) of the Federal Advisory Committee Act (Pub. L. 92-463), the Centers for Disease Control and Prevention announces the following meeting of the aforementioned committee.

Time and Date: 9:00 a.m.-4:30 p.m., EST, May 13, 2014.

Place: Ronald Reagan International Trade Center, Polaris Suite, 1300 Pennsylvania Avenue NW., Washington, DC 20004, Telephone: (202) 312-1300.

Status: Open to the public, limited only by the space and telephone lines available. Participants that would like to attend in person are encouraged to register with the contact person listed below. If you will require a sign language interpreter, or have other special needs, please notify the contact person by 4:30 p.m. EST on May 9, 2014.

Limited teleconference access is also available. Login information is as follows:

For Public

Toll Free Telephone: (800) 779-1088

Participant passcode: 4863751

Participant URL: https://www.mymeetings.com/nc/join/

Purpose: The committee advises the Secretary, Department of Health and Human Services, and the Assistant Secretary for Health in the (a) coordination of all research and education programs and other activities within the Department and with other federal, state, local and private agencies, and (b) establishment and maintenance of liaison with appropriate private entities, federal agencies, and state and local public health agencies with respect to smoking and health activities.

Matters For Discussion: The topic of the meeting is “50 Years of U.S. Tobacco Control” and will provide a review of the recently released Surgeon General's Report on the Health Consequences of Smoking—50 Years of Progress—leading to a discussion of what it will take to end the tobacco epidemic.

Agenda items are subject to change as priorities dictate.

Contact Person For More Information: Substantive program information as well as summaries of the meeting and roster of committee members may be obtained from the internet at www.cdc.gov/tobacco in mid-August or from Ms. Monica L. Swann, Management and Program Analyst, National Center for Chronic Disease Prevention and Health Promotion, CDC, 395 E. Street SW., Washington, DC 20024, telephone: (202) 245-0552.

The Director, Management Analysis and Services Office, has been delegated the authority to sign Federal Register notices pertaining to announcements of meetings and other committee management activities, for both the Centers for Disease Control and Prevention and the Agency for Toxic Substances and Disease Registry.

Gary J. Johnson,
Acting Director, Management Analysis and Services Office, Centers for Disease Control and Prevention.

[FR Doc. 2014-09146 Filed 4-22-14; 8:45 am]

BILLING CODE 4163-18-P